DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health.

Dates and Times: November 8, 2011, 8:30 a.m. to 5 p.m. November 9, 2011, 8:30 a.m. to 5 p.m.

Place: Hotel Albuquerque at Old Town, 800 Rio Grande Boulevard, Northwest, Albuquerque, New Mexico 87104, Telephone: 505-843-6300, Fax: 505-842-8426.

Status: The meeting will be open to the public.

Purpose: The purpose of the meeting is to discuss services and issues related to the health of migrant and seasonal farmworkers and their families and to formulate recommendations for the Secretary of Health and Human Services.

Agenda: The agenda includes an overview of the Council's general business activities. The Council will also hear presentations from experts on farmworker issues, including the status of farmworker health at the local and national levels.

In addition, the Council will be holding a public hearing at which migrant farmworkers, community leaders, and providers will have the opportunity to testify before the Council regarding matters that affect the health of migrant farmworkers. The hearing is scheduled for Tuesday, November 8, 2011, from 1 p.m. to 4 p.m., at the Hotel Albuquerque at Old Town.

The Council meeting is being held in conjunction with the Midwest Stream Farmworker Health Forum sponsored by the National Center for Farmworker Health, which is being held in Albuquerque, New Mexico, November 10-12, 2011.

Agenda items are subject to change as priorities indicate.

For Further Information Contact: Gladys Cate, Office of Special Population Health, Bureau of Primary Health Care, Health Resources and Services Administration, 5600 Fishers Lane, Room 15-62, Maryland 20857; telephone (301) 594-0367.

Dated: September 13, 2011.
Reva Harris,
Acting Director, Division of Policy and Information Coordination.

[FR Doc. 2011-24127 Filed 9-19-11; 8:45 am]

BILLING CODE 4165-15-P